DEPARTMENT OF THE INTERIOR

Fish and Wildlife Service

[FWS-R5-R-2008-N0242; BAC-4311-K9-S3]

Back Bay National Wildlife Refuge, City of Virginia Beach, VA

AGENCY: Fish and Wildlife Service, Interior.

ACTION: Notice of availability of draft comprehensive conservation plan and environmental assessment; request for comments.

SUMMARY: The U.S. Fish and Wildlife Service (Service) announces the availability of the draft comprehensive conservation plan (CCP) and draft environmental assessment (EA) for Back Bay National Wildlife Refuge (NWR) for a 30-day public review and comment period. In this draft CCP/EA, we describe three alternatives, including our Service-preferred Alternative B, for managing this refuge for the next 15 years. Also available for public review and comment are the draft compatibility determinations, which are included as Appendix A in the draft CCP/EA.

DATES: To ensure our consideration of your written comments, we must receive them by April 29, 2010. We will also hold public meetings in Virginia Beach, Virginia during the 30-day review period to receive comments and provide information on the draft plan. We will announce and post details about public meetings in local news media, via our project mailing list, and on our regional planning Web site, http://www.fws.gov/northeast/planning/back bay/ccphome.html.

ADDRESSES: Send your comments or requests for copies of the draft CCP/EA by any of the following methods. You may also drop off comments in person at Back Bay NWR, 4005 Sandpiper Road, Virginia Beach, Virginia.

U.S. Postal Service: Thomas Bonetti, Natural Resource Planner, U.S. Fish and Wildlife Service, 300 Westgate Center Drive, Hadley, Massachusetts 01035.

Facsimile: Attention: Thomas Bonetti, 413-253-8307.

Electronic mail: northeastplanning@fws.gov. Include “Back Bay NWR CCP” in the subject line of your e-mail.

Agency Web site: View or download the draft document at http://www.fws.gov/backbay/.

FOR FURTHER INFORMATION CONTACT: Jared Brandwein, Project Leader, Back Bay NWR, 4005 Sandpiper Road, Virginia Beach, VA 23456-4325; 757-721-2412 (phone); 757-721-6141 (facsimile).

SUPPLEMENTARY INFORMATION:

Introduction

With this notice, we continue the CCP process for Back Bay NWR. We started the CCP process by publishing a notice in the Federal Register (67 FR 30950) on May 8, 2002, and then updating that notice (72 FR 8196) on February 23, 2007. We prepared the draft CCP in compliance with the National Environmental Policy Act of 1969 (42 U.S.C. 4321-4347, as amended) (NEPA) and the National Wildlife Refuge System Administration Act of 1966, as amended by the National Wildlife Refuge System Improvement Act of 1997 (Improvement Act).

Back Bay NWR, currently 9,035 acres, was established in 1938 by Executive Order #7907 “* * * as a Refuge and breeding ground for migratory birds and other wildlife.” Another of the refuge's primary purposes (for lands acquired under the Migratory Bird Conservation Act) is “* * * use as an inviolate sanctuary, or for any other management purpose, for migratory birds.” The Emergency Wetlands Resources Act of 1986 also authorizes purchase of wetlands for the purpose of “* * * the conservation of the wetlands of the Nation in order to maintain the public benefits they provide and to help fulfill international obligations contained in various migratory bird treaties and conventions * * *,” using money from the Land and Water Conservation Fund. In 1939, 4,600 acres of open bay waters within the refuge boundary were closed to the taking of migratory birds by Presidential proclamation.

The refuge includes five miles of oceanfront beach, a 900-acre freshwater impoundment complex, numerous bay islands, bottomland mixed forests, old fields, and freshwater wetlands adjacent to Back Bay and its tributary shorelines. The Back Bay NWR Station Management Plan in 1993 expanded the role of the refuge to include management emphases on other migratory bird groups, including threatened and endangered species, shorebirds, wading birds, marsh birds and songbirds/land birds.

Although wildlife and habitat conservation come first on the refuge, the public can enjoy excellent opportunities to observe and photograph wildlife, fish, hunt, or participate in environmental education and interpretation. Current visitor facilities are primarily located in the eastern, barrier island portion of the refuge, where annual visitation is greater than 100,000. Back Bay NWR provides scenic trails, a visitor contact station, and, with advance scheduling, group educational opportunities. Outdoor facilities are open daily dawn to dusk.

Background

The CCP Process

The Improvement Act requires us to develop a CCP for each national wildlife refuge. The purpose for developing CCPs is to provide refuge managers with 15-year plans for achieving refuge purposes and the mission of the National Wildlife Refuge System (NWRS), in conformance with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update each CCP at least every 15 years, in accordance with the Improvement Act.

Public Outreach

In conjunction with our Federal Register notice announcing our intent to begin the CCP process, open houses and public information meetings were held throughout the Virginia Beach area at three different locations during January 2002. Meetings were advertised locally through news releases, paid advertisements, and our mailing list. Participants were encouraged to actively express their opinions and suggestions. The public meetings allowed us to gather information and ideas from local residents, adjacent landowners, and various organizations and agencies.

An “Issues Workbook” was developed to encourage written comments on topics such as wildlife habitats, nuisance species, and public access to the refuge. These workbooks were mailed to a diverse group of over 1,500 people on our mailing list, given to people who attended a public meeting, and distributed to anyone who requested one. More than 100 people returned completed workbooks.

Throughout the process, we have conducted additional outreach via newsletters and participation in meetings, and continued to request public input on refuge management and programs. Some of the comments we received pertained to issues that included managing various invasive and pest species, providing access to and through the refuge, providing desired facilities and activities, and searching for ways to improve opportunities for public use while ensuring the restoration and protection of priority resources. We considered and evaluated all of those comments, and incorporated many of them into the varied alternatives in the draft CCP/EA.

CCP Actions We Are Considering, Including the Service-Preferred Alternative

We developed three management alternatives based on the purposes for establishing the refuge, its vision and goals, and the issues and concerns the public, State agencies, and the Service identified during the planning process. The alternatives have some actions in common, such as protecting cultural resources, developing step-down management plans, encouraging research that benefits our resource decisions, maintaining a proactive law enforcement program, continuing to acquire land from willing sellers within our approved refuge boundary, and distributing refuge revenue sharing payments to Virginia Beach.

Other actions distinguish the alternatives. The draft CCP/EA describes the alternatives in detail, and relates them to the issues and concerns we identified. Highlights follow.

Alternative A (Current Management)

This alternative is the “No Action” alternative, as required by NEPA. Alternative A defines our current management activities, and serves as the baseline against which to compare the other alternatives. A selection of this alternative would maintain the status quo in managing the refuge for the next 15 years. No major changes would be made to current management practices. This alternative provides a basis for comparing the other two alternatives.

Under current management, we manage a series of wetland and moist-soil impoundments, forested and shrub-scrub habitats, and coastal beach and dune habitats. Under Alternative A, we would continue to conduct land bird, marsh bird, and migratory waterfowl surveys, continue to conduct nesting and stranded sea turtle patrols, and continue current methods of nuisance and non-native species control. We would maintain existing opportunities for visitors to engage in wildlife observation, photography, and environmental education and interpretation, as well as maintain existing hunting and fishing opportunities on the refuge. We would maintain existing infrastructure and buildings, and maintain current staffing levels.

Alternative B (Service-Preferred Alternative)

This alternative is the one we propose as the best way to manage this refuge over the next 15 years. It includes an array of management actions that, in our professional judgment, works best toward achieving the refuge purposes, our vision and goals, and the goals of other State and regional conservation plans. We also believe it most effectively addresses the key issues raised during the planning process.

This alternative focuses on enhancing the conservation of wildlife through habitat management, as well as providing additional visitor opportunities on the refuge. Alternative B incorporates existing management activities and/or provides new initiatives or actions, aimed at improving efficiency and progress towards refuge goals and objectives. Some of the major strategies proposed include: Opening up forest canopy by selectively removing loblolly pine, sweetgum, and red maple; withdrawing the 1974 wilderness designation proposal for Long Island, Green Hills, and Landing Cove (2,165 acres); developing a canoe/kayak trail on the west side of Back Bay NWR; expanding the deer hunt and developing new hiking trails; and developing and designing a new headquarters/visitor contact station. We would also expand opportunities for the six priority public uses of the NWRS, and emphasize wildlife observation and photography, and interpretation.

The expansion of visitor facilities and services, as well as the projected increase in visitation, would require additional staffing support to meet public expectations, and provide for public safety, convenience, and a high quality experience for refuge visitors. Partnering, interagency agreements, service contracting, internships, and volunteer opportunities would increase in order to help provide this staffing support.

We would also continue our monitoring and inventory program, and regularly evaluate the results to help us better understand the implications of our management actions and identify ways to improve their effectiveness.

Alternative C (Improved Biological Integrity)

Alternative C prominently features additional management that aims to restore (or mimic) natural ecosystem processes or functions to achieve refuge purposes.

Alternative C focuses on using management techniques that would encourage forest growth and includes an increased focus toward the previously proposed wilderness areas. Some of the major strategies proposed include: Developing an interagency agreement that would allow the 1974 proposed wilderness areas at Long Island, Green Hills, and Landing Cove (2,165 acres) to again meet minimum criteria, and then manage accordingly; and, creating conditions that allow us to shift more resources from intensive management of the refuge impoundment system to the restoration of Back Bay-Currituck Sound. In addition, we propose to continue enhancing visitor services by: Developing a hiking trail along Nanney's Creek; initiating actions to open the Colchester impoundment for fishing opportunities; considering additional waterfowl hunting areas; developing and designing a new headquarters/visitor contact station that provides more office space than proposed for Alternative B; and working with partners to provide a shuttle (for a fee) service from the new headquarters site to the barrier spit.

Public Meetings

We will give the public opportunities to provide input at two public meetings in Virginia Beach, Virginia. You can obtain the schedule from the project leader or natural resource planner (see ADDRESSES or FOR FURTHER INFORMATION CONTACT, above). You may also submit comments at any time during the planning process by any means shown in the ADDRESSES section.

Public Availability of Comments

Before including your address, phone number, e-mail address, or other personal identifying information in your comments, you should be aware that your entire comment—including your personal identifying information—may be made publicly available at any time. While you can ask us in your comments to withhold your personal identifying information from public review, we cannot guarantee that we will be able to do so.

Dated: March 2, 2010.
Wendi Weber,
Acting Regional Director, Northeast Region, U.S. Fish and Wildlife Service.

[FR Doc. 2010-7058 Filed 3-29-10; 8:45 am]

BILLING CODE 4310-55-P